DEPARTMENT OF HEALTH AND HUMAN SERVICES

Meeting of the Chronic Fatigue Syndrome Advisory Committee

AGENCY: Department of Health and Human Services, Office of the Secretary, Office of the Assistant Secretary for Health.

ACTION: Notice.

SUMMARY: As stipulated by the Federal Advisory Committee Act, the U.S. Department of Health and Human Services (HHS) is hereby giving notice that a webinar meeting of the Chronic Fatigue Syndrome Advisory Committee (CFSAC) will take place and open to the public to listen in via a toll free number.

DATES: The CFSAC webinar will be held on Wednesday, June 20, 2018, from 9:00 a.m. until 5:00 p.m. and on Thursday, June 21, 2018 from 9:00 a.m. to 5:00 p.m. (EST).

ADDRESSES: This meeting will be broadcasted to the public as a webinar. A webinar is a virtual meeting. Registration is not required for the webinar.

FOR FURTHER INFORMATION CONTACT: Gustavo Ceinos, MPH, Designated Federal Officer, Chronic Fatigue Syndrome Advisory Committee, Department of Health and Human Services, 200 Independence Avenue SW, Room 728F.6, Washington, DC 20201. Please direct all inquiries to cfsac@hhs.gov.

SUPPLEMENTARY INFORMATION: The CFSAC is authorized in 42 U.S.C.217a, Section 222 of the Public Health Service Act, as amended. The purpose of the CFSAC is to provide advice and recommendations to the Secretary of Health and Human Services (HHS), through the Assistant Secretary for Health (ASH), on issues related to myalgic encephalomyelitis/chronic fatigue syndrome (ME/CFS). The issues can include factors affecting access and care for persons with ME/CFS; the science and definition of ME/CFS; and broader public health, clinical, research, and educational issues related to ME/CFS.

The agenda for this meeting, call-in information and location will be posted on the CFSAC website http://www.hhs.gov/ash/advisory-committees/cfsac/meetings/index.html.

A one hour of public comments via telephone will be scheduled for the first and second day of the webinar. Individuals will have five minutes to present their comments. Priority will be given to individuals who have not provided public comments within the previous year. We are unable to place international calls for public comments. To request a time slot for public comments, please send an email to cfsac@hhs.gov by Wednesday, June 13, 2018. The email should contain the speaker's name and the telephone number that will be used for public comments.

Individuals who would like to provide written testimony to Committee members should submit a copy of their testimony prior to the meeting. It is preferred, but not required, that the submitted testimony be prepared in digital format and typed using a 12-pitch font. Copies of the written testimony must not exceed 5 single-space pages, and it is preferred, but not required that the document be prepared in the MS Word format. Please note that PDF files, handwritten notes, charts, and photographs cannot be accepted. Materials submitted should not include sensitive personal information, such as social security number, birthdates, driver's license number, passport number, financial account number, or a credit or debit card number. If you wish to remain anonymous, you must specify this in the document.

The Committee welcomes input on any topic related to ME/CFS.

Dated: April 27, 2018.
Gustavo Ceinos,
Commander, USPHS, Designated Federal Officer.

[FR Doc. 2018-09844 Filed 5-8-18; 8:45 am]

BILLING CODE 4150-42-P